DEPARTMENT OF EDUCATION

34 CFR Parts 668, 674, 675, 676, 682, 685, 690, and 691

Student Assistance General Provisions; Federal Perkins Loan Program; Federal Work-Study Programs; Federal Supplemental Educational Opportunity Grant Program; Federal Family Education Loan Program; William D. Ford Federal Direct Loan Program; Federal Pell Grant Program; Academic Competitiveness Grant Program; and National Science and Mathematics Access to Retain Talent Grant Program

AGENCY: Office of Postsecondary Education, Department of Education.

ACTION: Interim final regulations; Corrections.

SUMMARY: On July 3, 2006, we published in the Federal Register (71 FR 37990) interim final regulations for the Academic Competitiveness Grant and National Science and Mathematics Access to Retain Talent Grant programs. The interim final regulations also amended the Student Assistance General Provisions, Federal Perkins Loan Program, Federal Work-Study Programs, Federal Supplemental Educational Opportunity Grant Program, Federal Family Education Loan Program, William D. Ford Federal Direct Loan Program, and Federal Pell Grant Program.

In the DATES section of that notice, we inadvertently left two regulations off the list of regulations that contain information collection requirements with which affected parties need not comply until we publish in the Federal Register the control numbers assigned to these information collection requirements by the Office of Management and Budget. This notice corrects the error as follows:

On page 37990, in the second column, under the DATES section, in the third sentence, insert “691.16, 691.82,” immediately following “691.15,”.

In addition, we inadvertently included an incorrect citation in the notice of interim final regulations. This notice corrects the error as follows:

On page 37993, in the third column, in the first sentence of the paragraph beginning “Reason:”, replace “34 CFR 660.2” with “34 CFR 600.2”.

FOR FURTHER INFORMATION CONTACT: Jacquelyn Butler, U.S. Department of Education, 1990 K Street, NW., room 8053, Washington, DC 20006-8544. Telephone: (202) 502-7890. Sophia McArdle, U.S. Department of Education, 1990 K Street, NW., room 8019, Washington, DC 20006-8544. Telephone: (202) 219-7078.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

You may also view this document in text or PDF at the following site: http://ifap.ed.gov/IFAPWebApp/currentFRegistersPag.jsp.

Note: The official version of this document is the document published in the Federal Register. Free Internet access to the official edition of the Federal Register and the Code of Federal Regulations is available on GPO Access at: http://www.access.gpo.gov/nara/index.html

(Catalog of Federal Domestic Assistance Numbers: 84.375 Academic Competitiveness Grants; 84.376 SMART Grants)

List of Subjects in 34 CFR Parts 668, 674, 675, 676, 682, 685, 690, and 691

Colleges and universities, Elementary and secondary education, Grant programs-education, Student aid.

Margaret Spellings,
Secretary of Education.

[FR Doc. E6-13901 Filed 8-21-06; 8:45 am]

BILLING CODE 4000-01-P